DEPARTMENT OF THE INTERIOR

National Park Service

National Mall and Memorial Parks; Notice of Intent To Revise the Scope of an Environmental Impact Statement and Plan for the National Mall

AGENCY: Department of the Interior, National Park Service.

ACTION: Notice of Intent to revise the scope of the National Mall Plan Environmental Impact Statement and to prepare a separate Environmental Assessment (EA) for Pennsylvania Avenue National Historic Site.

SUMMARY: In accordance with section 102(2)(C) of the National Environmental Policy Act of 1969, the National Park Service (NPS) has been preparing a National Mall Plan Environmental Impact Statement (National Mall Plan) to develop a long-range vision for the use and management of the National Mall and for Pennsylvania Avenue National Historic Site. The scope of the National Mall Plan will be revised so that planning for Pennsylvania Avenue National Historic Site will continue in a separate planning document and process, an action supported by stakeholders and other federal agencies. Comments received to date during the National Mall Plan public scoping and involvement periods that pertain to the Pennsylvania Avenue National Historic Site will be incorporated into planning and environmental analysis for Pennsylvania Avenue National Historic Site.

The NPS announced the start of initial planning for the National Mall Plan on January 16, 2007 (72 FR 1763). Following public meetings the NPS determined the plan would be an Environmental Impact Statement. The decision was announced in the Federal Register on September 6, 2007 (72 FR 51253).

DATES: Information related to public involvement opportunities for both the National Mall Plan and for the EA for Pennsylvania Avenue National Historic Site will be provided at the project Web site: http://www.nps.gov/nationalmallplan.

SUPPLEMENTARY INFORMATION: The planning effort will include compliance with Section 106 of the National Historic Preservation Act and other laws and regulations. The EA for Pennsylvania Avenue National Historic Site, an area that has also been referred to as Pennsylvania Avenue National Historical Park, will address sidewalks and parks along Pennsylvania Avenue NW., from 1st Street to 15th Street and will include a number of commemorative statues as well as memorial parks such as the U.S. Navy Memorial, Pershing Park, Freedom Plaza, Indiana Plaza, the Mellon Fountain and John Marshall Park.

A map of the revised study areas for the National Mall Plan and for the EA for Pennsylvania Avenue National Historic Site is available at the project Web site: http://www.nps.gov/nationalmallplan.

The comments already received by the NPS related to Pennsylvania Avenue National Historic Site are being considered in this process along with the information provided by cooperating agencies and others. The primary issues in the EA for Pennsylvania Avenue National Historic Site that have been raised relate to commercial uses, future commemorative locations, maintenance and care of memorial parks and the sidewalks, and circulation. Additional issues may be defined or added and their resource impacts analyzed throughout the planning process.

FOR FURTHER INFORMATION CONTACT: Project Executive Susan Spain, at National Mall & Memorial Parks, 900 Ohio Drive, SW., Washington, DC 20004, by telephone at (202) 245-4692, or by e-mail at susan_spain@nps.gov.

Dated: October 22, 2009.
Margaret O'Dell,
Regional Director, National Capital Region.

[FR Doc. E9-26467 Filed 11-3-09; 8:45 am]

BILLING CODE 4312-39-P